DEPARTMENT OF LABOR

Mine Safety and Health Administration

[OMB Control No. 1219-0144]

Proposed Extension of Information Collection; Mine Rescue Teams; Arrangements for Emergency Medical Assistance and Transportation for Injured Persons; Agreements; Reporting Requirements; Posting Requirements

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. Currently, the Mine Safety and Health Administration (MSHA) is soliciting comments on the information collection for Mine Rescue Teams; Arrangements for Emergency Medical Assistance and Transportation for Injured Persons; Agreements; Reporting Requirements; Posting Requirements.

DATES: All comments must be received on or before March 13, 2023.

ADDRESSES: Comments concerning the information collection requirements of this notice may be sent by any of the methods listed below.

• Federal E-Rulemaking Portal: http://www.regulations.gov. Follow the on-line instructions for submitting comments for docket number MSHA-2022-0064.

• Mail/Hand Delivery: Mail or visit DOL-MSHA, Office of Standards, Regulations, and Variances, 201 12th Street South, Suite 4E401, Arlington, VA 22202-5452. Before visiting MSHA in person, call 202-693-9455 to make an appointment, in keeping with the Department of Labor's COVID-19 policy. Special health precautions may be required.

• MSHA will post your comment as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile).

SUPPLEMENTARY INFORMATION:

I. Background

Section 103(h) of the Federal Mine Safety and Health Act of 1977 (Mine Act), 30 U.S.C. 813(h), authorizes MSHA to collect information necessary to carry out its duty in protecting the safety and health of miners. Further, section 101(a) of the Mine Act, 30 U.S.C. 811, authorizes the Secretary of Labor to develop, promulgate, and revise as may be appropriate, improved mandatory health or safety standards for the protection of life and prevention of injuries in coal and metal and nonmetal mines.

30 CFR part 49 subpart A, Mine Rescue Teams for Underground Metal and Nonmetal (MNM) Mines, requires every operator of an underground mine to assure the availability of mine rescue capability for purposes of emergency rescue and recovery. This collection of information relates to the availability of mine rescue teams; alternate mine rescue capability for small and remote mines and mines with special mining conditions; inspection and maintenance records of mine rescue equipment and apparatus; physical requirements for team members and alternates; and experience and training requirements for team members and alternates. 30 CFR part 49 subpart A includes sections §§ 49.1-49.9 for MNM mine operators.

30 CFR 49.2 (Availability of mine rescue teams) requires each operator of an underground metal and non-metal mine to send the District Manager a statement describing the mine's method of compliance with this standard.

30 CFR 49.3 (Alternative mine rescue capability for small and remote mines) provides that operators of small and remote mines may submit an application for alternative mine rescue capability to MSHA for approval.

30 CFR 49.4 (Alternative mine rescue capability for special mining conditions) provides that operators of small and remote mines may submit an application for special mining conditions capability to MSHA for approval.

30 CFR 49.5 (Mine rescue station) provides that operators of an underground metal and nonmental mine shall designate, in advance, the location of the mine rescue station serving the mine. Mine rescue stations are to provide a centralized storage location for rescue equipment. This centralized storage location may be either at the mine site, affiliated mines, or a separate mine rescue structure. Mine rescue stations shall provide a proper storage environment to assure equipment readiness for immediate use.

30 CFR 49.6 (Equipment and maintenance requirements) requires that a person trained in the use and care of a breathing apparatus must inspect and test the apparatus at intervals not exceeding 30 days and must certify by signature and date that the required inspections and tests were done, and record any corrective action taken.

30 CFR 49.7 (Physical requirements for mine rescue team) requires that each member of a mine rescue team be examined annually by a physician who must certify that each person is physically fit to perform mine rescue and recovery work.

30 CFR 49.8 (Training for mine rescue teams) requires that a record of the training received by each mine rescue team member be made and kept on file at the mine rescue station for a period of 1 year. The operator must provide the District Manager information concerning the schedule of upcoming training when requested.

30 CFR 49.9 (Mine emergency notification plan) requires that each mine have a mine rescue notification plan outlining the procedures to be followed in notifying the mine rescue teams when there is an emergency that requires their services.

30 CFR part 49 subpart B Mine Rescue Teams for Underground Coal Mines, sets standards related to the availability of mine rescue teams; alternate mine rescue capability for small and remote mines; inspection and maintenance records of mine rescue equipment and apparatus; physical requirements for mine rescue team members and alternates; and experience and training requirements for team members and alternates. The collection of information under 30 CFR part 49, subpart B, covers the following requirements for underground coal mines. 30 CFR part 49 subpart B includes sections §§ 49.11-49.60 for coal mine operators.

30 CFR 49.12 (Availability of mine rescue teams) requires each operator of an underground coal mine to send the District Manager a statement describing the mine's method of compliance with this standard.

30 CFR 49.13 (Alternative mine rescue capability for small and remote mines) provides that operators of small and remote mines may submit an application for alternative mine rescue capability to MSHA for approval.

30 CFR 49.16 (Equipment and maintenance requirements) requires that a person trained in the use and care of a breathing apparatus must inspect and test the apparatus at intervals not exceeding 30 days and must certify by signature and date that the required inspections and tests were done, and record any corrective action taken.

30 CFR 49.17 (Physical requirements for mine rescue team) requires that each member of a mine rescue team be examined annually by a physician who must certify that each person is physically fit to perform mine rescue and recovery work.

30 CFR 49.18 (Training for mine rescue teams) requires that a record of the training received by each mine rescue team member be made and kept on file at the mine rescue station for a period of 1 year. The operator must provide the District Manager information concerning the schedule of upcoming training when requested.

30 CFR 49.19 (Mine emergency notification plan) requires that each mine have a mine rescue notification plan outlining the procedures to be followed in notifying the mine rescue teams when there is an emergency that requires their services.

30 CFR 49.50 (Certification of coal mine rescue teams) requires underground coal mine operators to certify that each designated coal mine rescue team meets the requirements of 30 CFR part 49 subpart B.

30 CFR 75.1713-1 and 77.1702 (Arrangements for emergency medical assistance and transportation for injured persons; agreements; reporting requirements; posting requirements) require coal mine operators to make arrangements for 24-hour emergency medical assistance and transportation for injured persons and to post this information at appropriate places at the mine, including the names, titles, addresses, and telephone numbers of all persons or services currently available under those arrangements.

II. Desired Focus of Comments

MSHA is soliciting comments concerning the proposed information collection related to Mine Rescue Teams; Arrangements for Emergency Medical Assistance and Transportation for Injured Persons; Agreements; Reporting Requirements; Posting Requirements. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at DOL-MSHA, Office of Standards, Regulations, and Variances, 201 12th Street South, Suite 4E401, Arlington, VA 22202-5452. Sign in at the receptionist's desk on the 4th floor via the East elevator. Before visiting MSHA in person, call 202-693-9455 to make an appointment, in keeping with the Department of Labor's COVID-19 policy. Special health precautions may be required.

Questions about the information collection requirements may be directed to the person listed in the FOR FURTHER INFORMATION section of this notice.

III. Current Actions

This request for collection of information contains provisions for Mine Rescue Teams; Arrangements for Emergency Medical Assistance and Transportation for Injured Persons; Agreements; Reporting Requirements; Posting Requirements. MSHA has updated the data with respect to the number of respondents, responses, burden hours, and burden costs supporting this information collection request.

Type of Review: Revision of a currently approved collection.

Agency: Mine Safety and Health Administration.

OMB Number: 1219-0144.

Affected Public: Business or other for-profit.

Number of Respondents: 362.

Frequency: On occasion.

Number of Responses: 30,463.

Annual Burden Hours: 5,106 hours.

Annual Respondent or Recordkeeper Cost: $265.

MSHA Forms: MSHA Form 2000-224, Operator's Annual Certification of Mine Rescue Team Qualifications And MSHA Form 5000-3, Certificate of Physical Qualification for Mine Rescue Work.

Comments submitted in response to this notice will be summarized and included in the request for Office of Management and Budget approval of the information collection request; they will also become a matter of public record.

Song-ae Aromie Noe,
Certifying Officer.

[FR Doc. 2023-00419 Filed 1-11-23; 8:45 am]

BILLING CODE 4510-43-P